DEPARTMENT OF EDUCATION

Notice of Submission for OMB Review; Office of Communications and Outreach; Presidential Scholars Program Application

SUMMARY: The United States Presidential Scholars Program is a national recognition program to honor outstanding graduating high school seniors. Candidates are invited to apply based on academic achievements on the Scholastic Aptitude Test (SAT) or American College Testing (ACT) assessments, or on artistic merits based on participation in a national talent search.

DATES: Interested persons are invited to submit comments on or before June 25, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04813. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Presidential Scholars Program Application.

OMB Control Number: 1860-0504.

Type of Review: Extension.

Total Estimated Number of Annual Responses: 2,600.

Total Estimated Number of Annual Burden Hours: 41,600.

Abstract: The United States Presidential Scholars Program is a national recognition program to honor outstanding graduating high school seniors. Candidates are invited to apply based on academic achievements on the Scholastic Aptitude Test (SAT) or American College Testing (ACT) assessments, or on artistic merits based on participation in a national talent search.

The purpose of the information collection is to compile information about each student candidate who is applying (via the U.S. Presidential Scholars Program Application) to be recognized as a U.S. Presidential Scholar in that year. Candidates are invited to apply via a selection process determined by the Commission on Presidential Scholars. Interested candidates submit applications to be processed and organized for review by a contractor. This information is evaluated first by an independent review committee, which selects some 560 semifinalists, and finally by the Commission on Presidential Scholars, which selects up to 141 Scholars. After this, the information is used for the development of student biographies, press releases, talking points for U.S. Department of Education and White House staff, and/or other publications or purposes. The information obtained through this collection is required to conduct the selection of each year's “class” of U.S. Presidential Scholars, as required by Executive Orders 11155 and 12158.

Dated: May 21, 2012.
Darrin A. King,
Director, Information Collection Clearance Division, Privacy, Information and Records Management Services, Office of Management.

[FR Doc. 2012-12786 Filed 5-24-12; 8:45 am]

BILLING CODE 4000-01-P